DEPARTMENT OF THE TREASURY

Fiscal Service

Financial Management Service; Senior Executive Service; Financial Management Service Performance Review Board (PRB)

AGENCY: Financial Management Service, Fiscal Service, Treasury.

ACTION: Notice.

SUMMARY: This notice announces the appointment of members to the Financial Management Service (FMS) Performance Review Board (PRB).

DATES: This notice is effective on October 5, 2005.

FOR FURTHER INFORMATION CONTACT: Kenneth R. Papaj, Deputy Commissioner, Financial Management Service, 401 14th Street, SW., Washington, DC; telephone (202) 874-7000.

SUPPLEMENTARY INFORMATION: Pursuant to 5 U.S.C. 4314(c)(4), this notice is given of the appointment of individuals to serve as members of the FMS PRB. This Board reviews the performance appraisals of career senior executives below the Assistant Commissioner level and makes recommendations regarding ratings, bonuses, and other personnel actions. Four voting members constitute a quorum. The names and titles of the FMS PRB members are as follows:

Primary Members

Kenneth R. Papaj, Deputy Commissioner;

Nancy C. Fleetwood, Assistant Commissioner, Information Resources;

Gary Grippo, Assistant Commissioner, Federal Finance;

James M. Mills, Assistant Commissioner, Debt Management Services;

Judy Tillman, Assistant Commissioner, Regional Operations.

Alternate Members

Scott Johnson, Assistant Commissioner, Management (Chief Financial Officer);

Kerry Lanham, Assistant Commissioner, Agency Services;

Wanda Rogers, Assistant Commissioner, Financial Operations;

Donald J. Sturgill, Assistant Commissioner, Governmentwide Accounting Operations.

Dated: September 29, 2005.
Kenneth R. Papaj,
Deputy Commissioner.

[FR Doc. 05-19900 Filed 10-4-05; 8:45 am]

BILLING CODE 4810-35-M